DEPARTMENT OF ENERGY

Federal Energy Regulatory Commission

[Docket No. EC00-117-000, et al.]

Calpine Corporation, et al.; Electric Rate and Corporate Regulation Filings

August 3, 2000.

Take notice that the following filings have been made with the Commission:

1. Calpine Corporation, Polsky Energy Corporation and SkyGen Energy Holdings LLC

[Docket No. EC00-117-000]

Take notice that on July 26, 2000, Calpine Corporation (Calpine), Polsky Energy Corporation (PEC) and SkyGen Energy Holdings LLC (collectively, Applicants) tendered for filing an application under section 203 of the Federal Power Act for approval of the disposition of jurisdictional facilities that will result from Calpine's purchase of all of the outstanding shares of PEC.

Comment date: August 25, 2000, in accordance with Standard Paragraph E at the end of this notice.

2. Arizona Public Service Company, Pinnacle West Capital Corporation, Pinnacle West Energy Corporation

[Docket No. EC00-118-000]

Take notice that on July 28, 2000, Arizona Public Service Corporation (APS), Pinnacle West Capital Corporation (PWCC), and Pinnacle West Energy Corporation (PWE) (collectively, Applicants) filed with the Commission an Application for Authorization to Transfer Jurisdictional Facilities under section 203 of the Federal Power Act, 16 U.S.C. 824b (1994), and Part 33 of the Federal Energy Regulatory Commission's (FERC or the Commission) Regulations, 18 CFR 33.1-33.10.

Comment date: August 28, 2000, in accordance with Standard Paragraph E at the end of this notice.

3. New England Power Company

[Docket No. EC00-119-000]

Take notice that on July 28, 2000, New England Power Company (NEP) tendered for filing a lease agreement with USGen New England, Inc. (USGen) for the temporary use of a spare transformer at USGen's Brayton Point generation site.

Comment date: August 28, 2000, in accordance with Standard Paragraph E at the end of this notice.

4. Western Systems Power Pool

[Docket No. ER91-195-043]

Take notice that on July 31, 2000, the Western Systems Power Pool (WSPP) filed certain information as required by Ordering paragraph (D) of the Commission's June 27, 1991 order (55 FERC ¶ 61,495) and Ordering Paragraph (C) of the Commission's June 1, 1992 Order On Rehearing Denying Request Not To Submit Information, And Granting In Part And Denying In Part Privileged Treatment. Pursuant to 18 CFR 385.211, WSPP has requested privileged treatment for some of the information filed consistent with the June 1, 1992 order.

Comment date: August 21, 2000, in accordance with Standard Paragraph E at the end of this notice.

5. Connecticut Yankee Atomic Power Company

[Docket No. ER97-913-002]

Take notice that on July 31, 2000, Connecticut Yankee Atomic Power Company (Company or Connecticut Yankee) tendered for filing executed amendments to the Power Contracts between the Company and each of its wholesale purchasers—The Connecticut Light and Power Company, New England Power Company, Boston Edison Company, The United Illuminating Company, Western Massachusetts Electric Company, Central Maine Power Company, Public Service Company of New Hampshire, Cambridge Electric Light Company, and Central Vermont Public Service Corporation.

The proposed amendments are made in compliance with the Commission's July 26, 2000 letter order approving the settlement filed by Connecticut Yankee on April 7, 2000, as supplemented on April 27, 2000, in Docket No. ER97-913-001. Connecticut Yankee Atomic Power Company, 92 FERC ¶ 61,055 (2000). By this filing, the Company seeks to ensure sufficient funding to safely decommission Connecticut Yankee's 583 MW nuclear generating unit in Haddam Neck, Connecticut.

Comment date: August 21, 2000, in accordance with Standard Paragraph E at the end of this notice.

6. California Independent System Operator Corporation

[Docket No. ER00-2383-001]

Take notice that on July 31, 2000, the California Independent System Operator Corporation (ISO) tendered for filing a change to the ISO Tariff to comply with the Commission's order in California Independent System Operator Corporation, 91 FERC ¶ 61,324 (2000). This change provides that any Participating Load that enters into an appropriate Participating Load Agreement can benefit from the same “no-pay” exemption that applies to Load that has been selected to participate in the ISO's Summer 2000 trial program.

The ISO states that this filing has been served upon all parties in this proceeding.

Comment date: August 21, 2000, in accordance with Standard Paragraph E at the end of this notice.

7. California Independent System Operator Corporation

[Docket No. ER00-3302-000]

Take notice that on July 28, 2000, the California Independent System Operator Corporation (ISO), tendered for filing a notice concerning the termination of the Meter Service Agreement for Scheduling Coordinators between the ISO and QST Energy Trading Inc.

The ISO requests that the agreement be terminated effective as of May 10, 2000. The ISO also requests waiver of the Commission's sixty-day prior notice requirement, pursuant to Section 35.3 of the Commission's Regulations, 18 CFR 35.3, in order to permit this effective date.

The ISO states that copies of this filing have been served upon all parties in the above-referenced docket.

Comment date: August 18, 2000, in accordance with Standard Paragraph E at the end of this notice.

8. California Independent System Operator Corporation

[Docket No. ER00-3303-000]

Take notice that on July 28, 2000, the California Independent System Operator Corporation (ISO), tendered for filing a notice concerning the termination of the Scheduling Coordinator Agreement (SCA) between the ISO and QST Energy Trading Inc. The ISO requests that the SCA be terminated effective as of May 10, 2000.

The ISO also requests waiver of the Commission's sixty-day prior notice requirement, pursuant to Section 35.3 of the Commission's Regulations, 18 CFR 35.3, in order to permit this effective date.

The ISO states that copies of this filing have been served upon all parties in the above-referenced docket.

Comment date: August 18, 2000, in accordance with Standard Paragraph E at the end of this notice.

9. California Independent System Operator Corporation

[Docket No. ER00-3304-000]

Take notice that on July 28, 2000, the California Independent System Operator Corporation (ISO), tendered for filing a notice concerning the termination of the Meter Service Agreement for Scheduling Coordinators between the ISO and LG&E Energy Marketing, Inc.

The ISO requests that the agreement be terminated effective as of May 31, 2000. The ISO also requests waiver of the Commission's sixty-day prior notice requirement, pursuant to section 35.3 of the Commission's Regulations, 18 CFR 35.3, in order to permit this effective date.

The ISO states that copies of this filing have been served upon all parties in the above-referenced docket.

Comment date: August 18, 2000, in accordance with Standard Paragraph E at the end of this notice.

10. California Independent System Operator Corporation

[Docket No. ER00-3305-000]

Take notice that on July 28, 2000, the California Independent System Operator Corporation (ISO), tendered for filing a notice concerning the termination of the Scheduling Coordinator Agreement (PGA) between the ISO and Calpine Geysers Company.

The ISO requests that the PGA be terminated effective as June 6, 2000. The ISO also requests waiver of the Commission's sixty-day prior notice requirement, pursuant to section 35.3 of the Commission's Regulations, 18 CFR 35.3, in order to permit this effective date.

The ISO states that copies of this filing have been served upon all parties in the above-referenced docket.

Comment date: August 18, 2000, in accordance with Standard Paragraph E at the end of this notice.

11. California Independent System Operator Corporation

[Docket No. ER00-3306-000]

Take notice that on July 28, 2000, the California Independent System Operator Corporation (ISO), tendered for filing a notice concerning the termination of the Scheduling Coordinator Agreement (PGA) between the ISO and San Diego Gas & Electric Company.

The ISO requests that the PGA be terminated effective as June 23, 2000. The ISO also requests waiver of the Commission's sixty-day prior notice requirement, pursuant to Section 35.3 of the Commission's Regulations, 18 CFR 35.3, in order to permit this effective date.

The ISO states that copies of this filing have been served upon all parties in the above-referenced docket.

Comment date: August 18, 2000, in accordance with Standard Paragraph E at the end of this notice.

12. California Independent System Operator Corporation

[Docket No. ER00-3307-000]

Take notice that on July 28, 2000, the California Independent System Operator Corporation (ISO), tendered for filing a notice concerning the termination of the Meter Service Agreement for Scheduling Coordinators between the ISO and Citizens Power Sales LLC.

The ISO requests that the agreement be terminated effective as of May 4, 2000. The ISO also requests waiver of the Commission's sixty-day prior notice requirement, pursuant to Section 35.3 of the Commission's Regulations, 18 CFR 35.3, in order to permit this effective date.

The ISO states that copies of this filing have been served upon all parties in the above-referenced docket.

Comment date: August 18, 2000, in accordance with Standard Paragraph E at the end of this notice.

13. California Independent System Operator Corporation

[Docket No. ER00-3308-000]

Take notice that on July 28, 2000, the California Independent System Operator Corporation (ISO), tendered for filing a notice concerning the termination of the Meter Service Agreement for ISO Metered Entities between the ISO and Simpson Paper Company, Humboldt Mill.

The ISO requests that the agreement be terminated effective as of May 9, 2000. The ISO also requests waiver of the Commission's sixty-day prior notice requirement, pursuant to Section 35.3 of the Commission's Regulations, 18 CFR 35.3, in order to permit this effective date.

The ISO states that copies of this filing have been served upon all parties in the above-referenced docket.

Comment date: August 18, 2000, in accordance with Standard Paragraph E at the end of this notice.

14. Illinois Power Company

[Docket No. ER00-3309-000]

Take notice that on July 28, 2000, Illinois Power Company (IP), tendered for filing notice that Illinois Power Company Open Access Transmission Tariff—FERC Electric Tariff, Second Revised Volume No. 8, should be considered modified such as to adopt the Transmission Loading Relief (TLR) procedures proposed by the North American Electric Reliability Council and accepted by the Commission, in North America Electric Reliability Council, 91 FERC 61,122 (2000).

IP Requests waiver of these requirements of the aforementioned order to permit it to file this notice out of time. Copies of this filing have been served upon all transmission customers of IP and the Illinois Commerce Commission.

Comment date: August 18, 2000, in accordance with Standard Paragraph E at the end of this notice.

15. Alliant Energy Corporate Services, Inc.

[Docket No. ER00-3310-000]

Take notice that on July 28, 2000, Alliant Energy Corporate Services, Inc. (Alliant Energy), tendered for filing executed Service Agreements for short-term firm point-to-point transmission service and non-firm point-to-point transmission service, establishing Enron Wind Development Corp., as a point-to-point Transmission Customer under the terms of the Alliant Energy Corporate Services, Inc., transmission tariff.

Alliant Energy Corporate Services, Inc., requests an effective date of July 19, 2000, and accordingly, seeks waiver of the Commission's notice requirements.

A copy of this filing has been served upon the Illinois Commerce Commission, the Minnesota Public Utilities Commission, the Iowa Department of Commerce, and the Public Service Commission of Wisconsin.

Comment date: August 18, 2000, in accordance with Standard Paragraph E at the end of this notice.

16. Alliant Energy Corporate Services, Inc.

[Docket No. ER00-3311-000]

Take notice that on July 28, 2000, Alliant Energy Corporate Services, Inc., tendered for filing executed Service Agreements for short-term firm point-to-point transmission service and non-firm point-to-point transmission service, establishing DTE Energy Trading, Inc., as a point-to-point Transmission Customer under the terms of the Alliant Energy Corporate Services, Inc. transmission tariff.

Alliant Energy Corporate Services, Inc. requests an effective date of July 19, 2000, and accordingly, seeks waiver of the Commission's notice requirements.

A copy of this filing has been served upon the Illinois Commerce Commission, the Minnesota Public Utilities Commission, the Iowa Department of Commerce, and the Public Service Commission of Wisconsin.

Comment date: August 18, 2000, in accordance with Standard Paragraph E at the end of this notice.

17. Pinnacle West Energy Corporation

[Docket No. ER00-3312-000]

Take notice that on July 28, 2000, Pinnacle West Energy Corporation (PWE), tendered for filing an application for an order authorizing it to make wholesale sales of electric power at market-based rates, waiving certain of the Commission's Regulations and seeking blanket approval to engage in certain transactions.

Pursuant to Section 35.3(a) of the Commission's Regulations, PWE also requests an effective date of 60 days after this filing, or the date on which the Commission issues an order approving PWE's application for market-based rates, whichever is earlier.

Comment date: August 18, 2000, in accordance with Standard Paragraph E at the end of this notice.

18. Tucson Electric Power Company

[Docket No. ER00-3313-000]

Take notice that on July 28, 2000, Tucson Electric Power Company tendered for filing one (1) umbrella service agreement (for short-term firm service) and one (1) Service Agreement for Non-Firm Transmission Service pursuant to Part II of Tucson's Open Access Transmission Tariff, which was filed in Docket No. OA96-140-000.

(1) Umbrella Agreement for Short-Term Firm Point-to-Point Transmission Service dated as of July 12, 2000 by and between Tucson Electric Power Company and San Diego Gas and Electric. No service has commenced at this time.

(2) Service Agreement for Non-Firm Point-to-Point Transmission Service dated as of July 12, 2000 by and between Tucson Electric Power Company and San Diego Gas and Electric. No service has commenced at this time.

Comment date: August 18, 2000, in accordance with Standard Paragraph E at the end of this notice.

19. Arizona Public Service Company

[Docket No. ER00-3314-000]

Take notice that on July 28, 2000, Arizona Public Service Company (APS) tendered for filing umbrella Service Agreements to provide Short-Term Firm and Non-Firm Point-to-Point Transmission Service to Salt River Project Agricultural and Power Improvement District under APS” Open Access Transmission Tariff.

A copy of this filing has been served on Salt River Project Agricultural and Power Improvement District, and the Arizona Corporation Commission.

Comment date: August 18, 2000, in accordance with Standard Paragraph E at the end of this notice.

20. American Transmission Company LLC

[Docket No. ER00-3316-000]

Take notice that on July 31, 2000, the American Transmission Company LLC tendered for filing its FERC Electric Service Tariff, Volume No. 1.

Copies of this filing were served upon the public utility's jurisdictional customers and affected state agencies.

Comment date: August 21, 2000, in accordance with Standard Paragraph E at the end of this notice.

21. Pacific Gas and Electric Company

[Docket No. ER00-3317-000]

Take notice that on July 31, 2000, Pacific Gas and Electric Company (PG&E), tendered for filing A Notice of Termination, Revised Pages and new Exhibit A and a Revised Appendix A to the September 22, 1993 Power and Transmission Services Agreement between PG&E and Lassen Municipal Utility District (Lassen). These submittals propose to increase Lassen's allocation of Federal Central Valley Power and adjust energy, power and transmission rates for services PG&E provides Lassen to be effective July 1, 1997 through June 30, 2000.

Copies of this filing have been served upon Lassen and the California Public Utilities Commission.

Comment date: August 21, 2000, in accordance with Standard Paragraph E at the end of this notice.

22. Tampa Electric Company

[Docket No. ER00-3328-000]

Take notice that on July 31, 2000, Tampa Electric Company (Tampa Electric), tendered for filing a service agreement with the Utilities Commission, City of New Smyrna Beach, Florida (NSB) under Tampa Electric's market-based sales tariff.

Tampa Electric requests that the service agreement be made effective on July 5, 2000.

Copies of the filing have been served on NSB and the Florida Public Service Commission.

Comment date: August 21, 2000, in accordance with Standard Paragraph E at the end of this notice.

23. Duke Energy Corporation

[Docket No. ER00-3329-000]

Take notice that on July 31, 2000, Duke Energy Corporation (Duke), tendered for filing a Service Agreement with Oglethorpe Power Corporation, for Transmission Service under Duke's Open Access Transmission Tariff.

Duke requests that the proposed Service Agreement be permitted to become effective on June 16, 2000.

Duke states that this filing is in accordance with Part 35 of the Commission's Regulations and a copy has been served on the North Carolina Utilities Commission.

Comment date: August 21, 2000, in accordance with Standard Paragraph E at the end of this notice.

24. Enron Energy Marketing Corporation

[Docket No. ER00-3330-000]

Take notice that on July 31, 2000, Enron Energy Marketing Corp., tendered a Notice of Succession pursuant to 18 CFR 35.16 and 131.51 of the Commission's Regulations. Enron Energy Marketing Corp., is succeeding to the Rate Schedule FERC No. 1, Market-Based Rate Schedule, and Supplement No. 1 to Rate Schedule FERC No. 1, Code of Conduct filed in Docket Nos. ER95-1614, et al., effective June 29, 2000.

Comment date: August 21, 2000, in accordance with Standard Paragraph E at the end of this notice.

25. Entergy Services, Inc.

[Docket No. ER00-3331-000]

Take notice that on July 31, 2000, Entergy Services, Inc. (Entergy), on behalf of Entergy Arkansas, Inc., Entergy Gulf States, Inc., Entergy Louisiana, Inc., Entergy Mississippi, Inc., and Entergy New Orleans, Inc., submitted to the Commission for filing copies of a Service Agreement for Purchase of Supplemental Capacity, between Entergy and PECO Energy Company.

Comment date: August 21, 2000, in accordance with Standard Paragraph E at the end of this notice.

26. Duke Energy Corporation

[Docket No. ER00-3332-000]

Take notice that on July 31, 2000, Duke Energy Corporation (Duke), tendered for filing a Service Agreement with H.Q. Energy Services (U.S.) Inc., for Transmission Service under Duke's Open Access Transmission Tariff.

Duke requests that the proposed Service Agreement be permitted to become effective on July 12, 2000.

Duke states that this filing is in accordance with Part 35 of the Commission's Regulations and a copy has been served on the North Carolina Utilities Commission.

Comment date: August 21, 2000, in accordance with Standard Paragraph E at the end of this notice.

27. Madison Gas and Electric Company

[Docket No. ER00-3333-000]

Take notice that on July 31, 2000, Madison Gas and Electric Company (MGE), tendered for filing a service agreement under MGE's Market-Based Power Sales Tariff with Public Service Company of Colorado.

MGE requests the agreement be effective on the date it was filed with the FERC.

Comment date: August 21, 2000, in accordance with Standard Paragraph E at the end of this notice.

28. Illinois Power Company

[Docket No. ER00-3334-000]

Take notice that on July 31, 2000, Illinois Power Company (Illinois Power), 500 South 27th Street, Decatur, Illinois 62521, tendered for filing updated specification pages to the existing unexecuted Service Agreement for Network Integration Transmission Service under which Soyland Power Cooperative, Inc., will take transmission service pursuant to Illinois Power's open access transmission tariff (OATT). The agreements are based on the Forms of Service Agreement in Illinois Power's OATT.

Illinois Power has requested an effective date of July 1, 2000.

Comment date: August 21, 2000, in accordance with Standard Paragraph E at the end of this notice.

29. Northern Indiana Public Service Company

[Docket No. ER00-3335-000]

Take notice that on July 31, 2000, Northern Indiana Public Service Company (Northern Indiana), tendered for filing a Service Agreement pursuant to its Wholesale Market-Based Rate Tariff with Amerada Hess Corporation (Amerada Hess).

Northern Indiana has requested an effective date of August 1, 2000.

Copies of this filing have been sent to Amerada Hess, the Indiana Utility Regulatory Commission, and the Indiana Office of Utility Consumer Counselor.

Comment date: August 21, 2000, in accordance with Standard Paragraph E at the end of this notice.

30. Northern Indiana Public Service Company

[Docket No. ER00-3336-000]

Take notice that on July 31, 2000, Northern Indiana Public Service Company (Northern Indiana), tendered for filing a Service Agreement pursuant to its Wholesale Market-Based Rate Tariff with Consumers Energy Company (Consumers).

Northern Indiana has requested an effective date of August 1, 2000.

Copies of this filing have been sent to Consumers, the Indiana Utility Regulatory Commission, and the Indiana Office of Utility Consumer Counselor.

Comment date: August 21, 2000, in accordance with Standard Paragraph E at the end of this notice.

31. New York State Electric & Gas Corporation

[Docket No. ER00-3337-000]

Take notice that on July 31, 2000, New York State Electric & Gas Corporation filed revisions to its Transmission Service Charge under the New York Independent System Operator (NYISO) Open Access Transmission Tariff and requested that its filing become effective on August 1, 2000.

A copy of this filing was served upon the New York State Public Service Commission, the NYISO, and any transmission customer who paid NYSEG's Transmission Service Charge under the NYISO's Open Access Transmission Tariff during the prior three months.

Comment date: August 21, 2000, in accordance with Standard Paragraph E at the end of this notice.

32. Golden Spread Electric Cooperative, Inc.

[Docket No. ER00-3338-000]

Take notice that on July 31, 2000, Golden Spread Electric Cooperative, Inc. (Golden Spread), tendered for filing a letter approving its membership in the Western Systems Power Pool (WSPP).

Golden Spread requests that the Commission allow its membership in the WSPP to become effective on August 1, 2000.

Golden Spread states that a copy of this filing has been served on the Public Utility Commission of Texas, the Oklahoma Corporation Commission, the WSPP Executive Committee, General Counsel to the WSPP and on the members of the WSPP.

Comment date: August 21, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-20197 Filed 8-9-00; 8:45 am]

BILLING CODE 6717-01-P